FEDERAL MARITIME COMMISSION

Ocean Transportation Intermediary License; Revocation

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR part 515, effective on the corresponding date shown below:

License Number: 018906NF.

Name: Tri-Net Logistics Management, Inc.

Address: One Civic Plaza Drive, Suite 455, Carson, CA 90745.

Date Revoked: December 14, 2011.

Reason: Voluntarily surrendered license.

License Number: 020594N.

Name: Transmodal Logistics International Inc.

Address: 6611 Woodwards Road, Richmond, British Columbia V6X 249.

Date Revoked: November 21, 2011.

Reason: Voluntarily surrendered license.

License Number: 023527N.

Name: TM Express, LLC.

Address: 16925 Colchester Way, Hacienda Heights, CA 91745.

Date Revoked: November 14, 2011.

Reason: Voluntarily surrendered license.

Sandra L. Kusumoto,
Director, Bureau of Certification and Licensing.

[FR Doc. 2012-415 Filed 1-11-12; 8:45 am]

BILLING CODE 6730-01-P